DEPARTMENT OF DEFENSE

Office of the Secretary

Termination of the Threat Reduction Advisory Committee

AGENCY: Department of Defense (DoD).

ACTION: Termination of Federal Advisory Committee.

SUMMARY: The DoD is publishing this notice to announce it is terminating the Threat Reduction Advisory Committee (TRAC) on December 16, 2019.

FOR FURTHER INFORMATION CONTACT: Jim Freeman, Advisory Committee Management Officer for the Department of Defense, 703-692-5952.

SUPPLEMENTARY INFORMATION: The TRAC is being terminated under the provisions of the Federal Advisory Committee Act (FACA) of 1972 (5 U.S.C., Appendix) and 41 CFR 102-3.55, and the Government in the Sunshine Act of 1976 (5 U.S.C. 552b), effective December 16, 2019.

Dated: December 13, 2019.
Aaron T. Siegel,
Alternate OSD Federal Register Liaison Officer, Department of Defense.

[FR Doc. 2019-27242 Filed 12-17-19; 8:45 am]

BILLING CODE 5001-06-P